FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011692-001.

Title: SCI/Contship and CMA CGM Space Charter and Sailing Agreement.

Parties: CMA CGM S.A., Contship Containerlines, The Shipping Corporation of India, Ltd.

Synopsis: The proposed modification adds language establishing a conference arrangement in that portion of the agreement scope westbound from India, Pakistan, Sri Lanka, and Bangladesh to the U.S. East Coast; retains voluntary rate authority for the remainder of the scope; retains sailing vessel-sharing authority for the entire scope; updates Contship's name to indicate its status as a subsidiary of CP Ships (UK) Limited; and changes the name of the agreement to the Indamex Agreement.

Agreement No.: 011779.

Title: Tropical/Kent Agreement.

Parties: Kent Line International Limited, Tropical Shipping & Construction Co., Ltd.

Synopsis: Under the agreement, Kent Line agrees not to compete as a container liner operator for a period of five years in the trades between Canada, the U.S. East Coast, and the Caribbean. This is part of the consideration associated with Tropical's purchase of Kent's assets in these trades.

By Order of the Federal Maritime Commission.
Dated: October 26, 2001.
Bryant L. VanBrakle,
Secretary.

[FR Doc. 01-27400 Filed 10-30-01; 8:45 am]

BILLING CODE 6730-01-P